DEPARTMENT OF TRANSPORTATION

Federal Aviation Administration

14 CFR Part 39

[Docket No. FAA-2021-1019; Project Identifier 2020-CE-006-AD; Amendment 39-21956; AD 2022-05-05]

RIN 2120-AA64

Airworthiness Directives; Schempp-Hirth Flugzeugbau GmbH Gliders

AGENCY: Federal Aviation Administration (FAA), DOT.

ACTION: Final rule.

SUMMARY: The FAA is adopting a new airworthiness directive (AD) for all Schempp-Hirth Flugzeugbau GmbH Model Ventus-2a and Ventus-2b gliders. This AD was prompted by mandatory continuing airworthiness information (MCAI) originated by an aviation authority of another country to identify and correct an unsafe condition on an aviation product. The MCAI describes the unsafe condition as severe corrosion on the inboard flaperon actuation push rods and ball bearing connecting the flaperon push rod to the bell crank inside the wing. This AD requires inspecting the affected parts of the flaperon control in the wings and taking corrective actions if necessary. The FAA is issuing this AD to address the unsafe condition on these products.

DATES: This AD is effective April 11, 2022.

The Director of the Federal Register approved the incorporation by reference of a certain publication listed in this AD as of April 11, 2022.

ADDRESSES: For service information identified in this final rule, contact Schempp-Hirth Flugzeugbau GmbH, Krebenstrasse 25, 73230 Kirchheim/Teck, Germany; phone: +49 7021 7298-0; fax: +49 7021 7298-199; email: info@schempp-hirth.com; website: https://www.schempp-hirth.com. You may view this service information at the FAA, Airworthiness Products Section, Operational Safety Branch, 901 Locust, Kansas City, MO 64106. For information on the availability of this material at the FAA, call (817) 222-5110. It is also available at https://www.regulations.gov by searching for and locating Docket No. FAA-2021-1019.

Examining the AD Docket

You may examine the AD docket at https://www.regulations.gov by searching for and locating Docket No. FAA-2021-1019; or in person at Docket Operations between 9 a.m. and 5 p.m., Monday through Friday, except Federal holidays. The AD docket contains this final rule, the MCAI, any comments received, and other information. The address for Docket Operations is U.S. Department of Transportation, Docket Operations, M-30, West Building Ground Floor, Room W12-140, 1200 New Jersey Avenue SE, Washington, DC 20590.

FOR FURTHER INFORMATION CONTACT: Jim Rutherford, Aviation Safety Engineer, General Aviation & Rotorcraft Section, International Validation Branch, FAA, 901 Locust, Room 301, Kansas City, MO 64106; phone: (816) 329-4165; email: jim.rutherford@faa.gov.

SUPPLEMENTARY INFORMATION:

Background

The FAA issued a notice of proposed rulemaking (NPRM) to amend 14 CFR part 39 by adding an AD that would apply to all Schempp-Hirth Flugzeugbau GmbH Model Ventus-2a and Ventus-2b gliders. The NPRM published in the Federal Register on December 6, 2021 (86 FR 68937). The NPRM was prompted by MCAI originated by the European Union Aviation Safety Agency (EASA), which is the Technical Agent for the Member States of the European Union. EASA issued AD 2020-0063, dated March 18, 2020 (referred to after this as “the MCAI”), to address an unsafe condition on Schempp-Hirth Flugzeugbau GmbH Models Ventus-2a, Ventus-2b, Ventus-2c, Ventus-2cM, and Ventus-2cT gliders. The MCAI states:

Severe corrosion has been found on the inboard flaperon actuation push rod of some sailplanes. Subsequent investigation determined that, when water ballast is dumped in flight, some water may be sucked into the wing upper side and enter the wing via the flaperon push rod. Intruding water may cause corrosion especially on the ball bearing connecting the flaperon push rod to the bell crank inside the wing.

This condition, if not detected an[d] corrected, could lead to hard steering (when the ball bearing is damaged) or increased play (when the ball bearing has failed), possibly resulting in reduced control of the (powered) sailplane.

To address this potential unsafe condition, Schempp-Hirth Flugzeugbau GmbH issued the [technical note] TN to provide inspection and replacement instructions.

For the reason described above, this [EASA] AD requires repetitive inspections of the affected parts, as identified in the TN, and, depending on findings, replacement with serviceable parts.

You may examine the MCAI in the AD docket at https://www.regulations.gov by searching for and locating Docket No. FAA-2021-1019.

In the NPRM, the FAA proposed to require compliance with the version of the TN (revision 2) identified in the MCAI. The FAA is issuing this AD to address the unsafe condition on these products.

Discussion of Final Airworthiness Directive

Comments

The FAA received no comments on the NPRM or on the determination of the costs.

Changes Made to This AD

After the NPRM was issued, the FAA received a copy of Schempp-Hirth Flugzeugbau GmbH Working Instructions for Technical Note No. 349-42/825-57, Revision 4, dated August 31, 2020. This revision of the TN provides clarification regarding the inspection area and instructions (including specifying that the mount is an affected part that must be inspected), the types of corrosion, and repair methods and instructions. This revision of the service information does not require additional work, because it does not impose any substantive changes to the procedures in revision 2.

As a result, the FAA has revised paragraph (g) of this AD to specify that the mount is an affected part that must be inspected and to require compliance with Schempp-Hirth Flugzeugbau GmbH Working Instructions for Technical Note No. 349-42/825-57, Revision 4, dated August 31, 2020. The FAA has also added paragraph (h) of this AD to provide credit for work done before the effective date of the AD using Schempp-Hirth Flugzeugbau GmbH Working Instructions for Technical Note No. 349-42/825-57, Revision 2, dated February 24, 2020; or Schempp-Hirth Flugzeugbau GmbH Working Instructions for Technical Note No. 349-42/825-57, Revision 3, dated March 31, 2020. Lastly, the FAA has revised the preamble of this final rule accordingly.

Conclusion

This product has been approved by the aviation authority of another country and is approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on these products. Except for the changes described previously, this AD is adopted as proposed in the NPRM.

Related Service Information Under 1 CFR Part 51

The FAA reviewed Schempp-Hirth Flugzeugbau GmbH Working Instructions for Technical Note No. 349-42/825-57, Revision 4, dated August 31, 2020. This service information contains procedures for inspecting the pushrod, joint head, mount, and bell crank of the flaperon control of the wings for corrosion or other damage, and replacing or servicing (repair) if necessary. This service information is reasonably available because the interested parties have access to it through their normal course of business or by the means identified in the ADDRESSES section.

Other Related Service Information

The FAA also reviewed Schempp-Hirth Flugzeugbau GmbH Technical Note No. 349-42/825-57, Revision 4, dated August 31, 2020. This service information specifies inspecting the pushrod, joint head, mount, and bell crank of the flaperon control of the wings by following Schempp-Hirth Flugzeugbau GmbH Working Instructions for Technical Note No. 349-42/825-57, Revision 4, dated August 31, 2020.

Differences Between This AD and the MCAI

The MCAI applies to Schempp-Hirth Flugzeugbau GmbH Model Ventus-2c, Ventus-2cM, and Ventus-2cT gliders, and this AD does not because they do not have an FAA type certificate.

Costs of Compliance

The FAA estimates that this AD affects 33 gliders of U.S. registry. The FAA also estimates that it would take about 1 work-hour per glider to comply with the inspection required by this AD. Based on these figures, the FAA estimates the inspection cost of this AD on U.S. operators to be $2,805 or $85 per glider, per inspection cycle.

In addition, the FAA estimates that each repair or replacement action required by this AD would take up to 8 work-hours and require parts costing up to $800. Based on these figures, the FAA estimates the repair or replacement cost of this AD on U.S. operators to be up to $1,480 per glider.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-05-05 Schempp-Hirth Flugzeugbau GmbH: Amendment 39-21956; Docket No. FAA-2021-1019; Project Identifier 2020-CE-006-AD.

(a) Effective Date

This airworthiness directive (AD) is effective April 11, 2022.

(b) Affected ADs

None.

(c) Applicability

This AD applies to Schempp-Hirth Flugzeugbau GmbH Model Ventus-2a and Ventus-2b gliders, all serial numbers, certificated in any category.

(d) Subject

Joint Aircraft System Component (JASC) Code 2700, Flight Control System.

(e) Unsafe Condition

This AD was prompted by mandatory continuing airworthiness information (MCAI) originated by an aviation authority of another country to identify and correct an unsafe condition on an aviation product. The MCAI describes the unsafe condition as severe corrosion on the inboard flaperon actuation push rods and ball bearing connecting the flaperon push rod to the bell crank inside the wing. The FAA is issuing this AD to prevent hard steering and increased play. The unsafe condition, if not addressed, could result in reduced control of the glider.

(f) Compliance

Comply with this AD within the compliance times specified, unless already done.

(g) Inspections and Corrective Actions

Within 90 days after the effective date of this AD and thereafter at intervals not to exceed 12 months, inspect the pushrod, joint head, mount, and bell crank of the flaperon control of the wings for corrosion and other damage, in accordance with Action 1 in Schempp-Hirth Flugzeugbau GmbH Working Instructions for Technical Note No. 349-42/825-57, Revision 4, dated August 31, 2020, and before further flight, repair or replace the affected part, as applicable, in accordance with Action 2 in Schempp-Hirth Flugzeugbau GmbH Working Instructions for Technical Note No. 349-42/825-57, Revision 4, dated August 31, 2020.

(h) Credit for Previous Actions

You may take credit for the actions required by paragraph (g) of this AD if you performed those actions before the effective date of this AD using Schempp-Hirth Flugzeugbau GmbH Working Instructions for Technical Note No. 349-42/825-57, Revision 2, dated February 24, 2020; or Schempp-Hirth Flugzeugbau GmbH Working Instructions for Technical Note No. 349-42/825-57, Revision 3, dated March 31, 2020.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j)(1) of this AD and email to: 9-AVS-AIR-730-AMOC@faa.gov.

(2) Before using any approved AMOC, notify your appropriate principal inspector, or lacking a principal inspector, the manager of the local flight standards district office/certificate holding district office.

(j) Related Information

(1) For more information about this AD, contact Jim Rutherford, Aviation Safety Engineer, General Aviation & Rotorcraft Section, International Validation Branch, FAA, 901 Locust, Room 301, Kansas City, MO 64106; phone: (816) 329-4165; email: jim.rutherford@faa.gov.

(2) Refer to European Union Aviation Safety Agency (EASA) AD 2020-0063, dated March 18, 2020, for more information. You may examine the EASA AD in the AD docket at https://www.regulations.gov by searching for and locating Docket No. FAA-2021-1019.

(3) Service information identified in this AD that is not incorporated by reference is available at the addresses specified in paragraphs (k)(3) and (4) of this AD.

(k) Material Incorporated by Reference

(1) The Director of the Federal Register approved the incorporation by reference of the service information listed in this paragraph under 5 U.S.C. 552(a) and 1 CFR part 51.

(2) You must use this service information as applicable to do the actions required by this AD, unless the AD specifies otherwise.

(i) Schempp-Hirth Flugzeugbau GmbH Working Instructions for Technical Note No. 349-42/825-57, Revision 4, dated August 31, 2020.

Note 1 to paragraph (k)(2)(i): This service information contains German to English translation. EASA used the English translation in referencing the document from Schempp-Hirth Flugzeugbau GmbH. For enforceability purposes, the FAA will cite references to the service information in English as it appears on the document.

(ii) [Reserved]

(3) For service information identified in this AD, contact Schempp-Hirth Flugzeugbau GmbH, Krebenstrasse 25, 73230 Kirchheim/Teck, Germany; phone: +49 7021 7298-0; fax: +49 7021 7298-199; email: info@schempp-hirth.com; website: https://www.schempp-hirth.com.

(4) You may view this service information at the FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: https://www.archives.gov/federal-register/cfr/ibr-locations.html.

Issued on February 17, 2022.
Lance T. Gant,
Director, Compliance & Airworthiness Division, Aircraft Certification Service.

[FR Doc. 2022-04650 Filed 3-4-22; 8:45 am]

BILLING CODE 4910-13-P